DEPARTMENT OF LABOR

Employment and Training Administration

Workforce Investment Act; Native American Employment and Training Council

AGENCY: Employment and Training Administration, U. S. Department of Labor.

ACTION: Notice of meeting.

SUMMARY: Pursuant to Section 10 (a)(2) of the Federal Advisory Committee Act (FACA) (Pub. L. 92-463), as amended, and Section 166 (h)(4) of the Workforce Investment Act (WIA) [29 U.S.C. 2911(h)(4)], notice is hereby given of the next meeting of the Native American Employment and Training Council (Council), as constituted under WIA.

DATES: The meeting will begin at 9 a.m. (Eastern Time) on Thursday, October 6, 2011, and continue until 5 p.m. that day. The meeting will reconvene at 8:30 a.m. on Friday, October 7, 2011, and adjourn at 5 p.m. that day. The period from 3 p.m. to 5 p.m. on October 6, 2011, will be reserved for participation and presentations by members of the public.

ADDRESSES: The meeting will be held at the U.S. Department of Labor, Francis Perkins Building, 200 Constitution Avenue, NW., Washington, DC 20210 room C-5515, Conference Room 2.

SUPPLEMENTARY INFORMATION: The meeting will be open to the public. Members of the public not present may submit a written statement on or before October 4, 2011, to be included in the record of the meeting. Statements are to be submitted to Mrs. Evangeline M. Campbell, Designated Federal Official (DFO), U.S. Department of Labor, 200 Constitution Avenue, NW., Room S-4209, Washington, DC 20210. Persons who need special accommodations should contact Mr. Craig Lewis at (202) 693-3384, at least two business days before the meeting. The formal agenda will focus on the following topics: (1) U.S. Department of Labor (DOL), Employment and Training Administration Update; (2) U.S. Department of Labor, Office of Public Engagement—Tribal Consultation Policy (TCP); (3) Office of Workforce Investment Administrator's Update; (4) DOL, Division of Indian and Native American Program Update; (5) Training and Technical Assistance; (6) Education Performance Measure; (7) Council Update; (8) Council Workgroup Reports; and (9) Council Recommendations.

FOR FURTHER INFORMATION CONTACT: Mrs. Evangeline M. Campbell, DFO, Division of Indian and Native American Programs, Employment and Training Administration, U.S. Department of Labor, Room S-4209, 200 Constitution Avenue, NW., Washington, DC 20210. Telephone number (202) 693-3737 (VOICE) (this is not a toll-free number).

Signed at Washington, DC, this 9th day of September 2011.
Jane Oates,
Assistant Secretary, Employment and Training Administration.

[FR Doc. 2011-23511 Filed 9-13-11; 8:45 am]

BILLING CODE 4501-FR-P